DEPARTMENT OF DEFENSE

Office of the Secretary

[Docket No. DoD-2008-OS-0034]

Proposed Collection; Comment Request

AGENCY: National Security Agency, DoD.

ACTION: Notice

In compliance with Section 3506(c)(2)(A) of the Paperwork Reduction Act of 1995, the National Security Agency announces a proposed new public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by June 17, 2008.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the National Security Agency, Information Assurance Directorate, ATTN: Mr. Matthew Needleman or IAWS Coordinator, 9800 Savage Road, Suite 6716, Fort Meade, MD 20755-6716, or call the Information Assurance Directorate, Community Outreach Office, at (410) 854-3354/7811.

Title and OMB Number: Information Assurance Workshop Survey, OMB Number 0704-TBD.

Needs and Uses: The purpose of collecting this information is to obtain feedback from the annual Information Assurance Workshop attendees on location, accommodations, workshop speakers and content, etc. This feedback will be used to only to improve future workshops.

Affected Public: DoD contractors.

Annual Burden Hours: 33.

Number Of Respondents: 400.

Responses Per Respondent: 1.

Average Burden Per Response: 5 minutes.

Frequency: Annually.

SUPPLEMENTARY INFORMATION:

Summary of Information Collection

Respondents have attended the annual Information Assurance Workshop sponsored by the government. Information gathered (on a voluntary basis) will be used only to enhance future workshops. No data collected or information related to the attendee will be released or made available to the public. Additionally, no correlation between the information gathered and the attendee will me made nor is it desired.

Dated: April 1, 2008.
Patricia L. Toppings,
Alternate OSD Federal Register Liaison Officer, Department of Defense.

[FR Doc. E8-8377 Filed 4-17-08; 8:45 am]

BILLING CODE 5001-06-P